DEPARTMENT OF COMMERCE

National Oceanic and Atmospheric Administration

RIN 0648-XF239

Western Pacific Fishery Management Council; Public Meeting

AGENCY: National Marine Fisheries Service (NMFS), National Oceanic and Atmospheric Administration (NOAA), Commerce.

ACTION: Notice; public meeting.

SUMMARY: The Western Pacific Stock Assessment Review (WPSAR) Steering Committee will convene a public meeting to discuss and approve the 5-year calendar for stock assessments, and to address any other concerns related to the WPSAR process: https://www.pifsc.noaa.gov/peer_reviews/wpsar/index.php. The steering committee consists of the Executive Director of the Council, the Director of the NMFS Pacific Islands Fisheries Science Center, and the Regional Administrator of the NMFS Pacific Islands Regional Office.

DATES: The meeting will be held on March 6, 2017, from 2 to 4 p.m.

ADDRESSES: The meeting will be held at the Honolulu Service Center, NOAA Fisheries, Pier 38, Honolulu Harbor, 1139 N. Nimitz Hwy, Suite 220, Honolulu, HI 96817.

FOR FURTHER INFORMATION CONTACT: Benjamin Richards at (808) 725-5320.

SUPPLEMENTARY INFORMATION: The public will have an opportunity to comment. The order in which agenda items are addressed may change. The meeting will run as late as necessary to complete scheduled business.

Schedule and Agenda for the Steering Committee Meeting

March 6, 2017—2 p.m.-4 p.m.

1. Introductions.

2. Discuss and update the 5-year stock assessment review schedule, including any changes to the scheduling of reviews for stock assessments already on the calendar, and any new additions to the schedule.

3. Discuss and update review levels, i.e. whether the stock assessments on the calendar will be reviewed as benchmark assessments (new assessments) or assessment updates (updates of existing models with recent data).

4. Review the upcoming schedule and nominate additional products for review by the Center for Independent Experts, if necessary.

5. Public Comment.

Special Accommodations

The meeting is physically accessible to people with disabilities. Make direct requests for sign language interpretation or other auxiliary aids to Benjamin Richards at (808) 725-5320 or Benjamin.Richards@noaa.gov at least 5 days prior to the meeting date.

Authority: 16 U.S.C. 1801 et seq.

Dated: February 17, 2017.
Tracey L. Thompson,
Acting Deputy Director, Office of Sustainable Fisheries, National Marine Fisheries Service.

[FR Doc. 2017-03506 Filed 2-22-17; 8:45 am]

BILLING CODE 3510-22-P